SECURITIES AND EXCHANGE COMMISSION

Investment Company Act of 1940; Release No. 32242/August 29, 2016; Order Under Sections 26(c) and 17(b) of the Investment Company Act of 1940 (“Act”)

In the Matter of:

Allianz Life Insurance Company of North America

Allianz Life Variable Account A

Allianz Life Variable Account B

Allianz Variable Insurance Products Trust

5701 Golden Hills Dr.

Minneapolis, MN 55416-1297

Allianz Life Insurance Company of New York

Allianz Life of NY Variable Account C

28 Liberty Street, 38th Floor

New York, NY 10005-1423

(812-14580):

Allianz Life Insurance Company of North America, Allianz Life Variable Account A, Allianz Life Variable Account B, Allianz Life Insurance Company of New York, Allianz Life of NY Variable Account C (collectively, the “Section 26 Applicants”); and Allianz Variable Insurance Products Trust (together with the Section 26 Applicants, the “Section 17 Applicants”) filed an application on November 16, 2015, and an amended and restated application on June 27, 2016. The Section 26 Applicants requested an order pursuant to section 26(c) of the Act to approve the substitutions of shares of certain registered management investment companies with shares of certain other registered management investment companies (“Substitutions”). The Section 17 Applicants requested an order under section 17(b) of the Act exempting them from section 17(a) of the Act to the extent necessary to permit them to engage in certain in-kind transactions in connection with the Substitutions.

On August 3, 2016, a notice of the filing of the application was issued (Investment Company Act Release No. 32207). The notice gave interested persons an opportunity to request a hearing and stated that an order disposing of the application would be issued unless a hearing was ordered. No request for a hearing has been filed, and the Commission has not ordered a hearing.

The matter has been considered, and it is found that the Substitutions are consistent with the protection of investors and the purposes fairly intended by the policy and provisions of the Act.

It is also found that the terms of the proposed transactions, including the consideration to be paid or received, are reasonable and fair and do not involve overreaching on the part of any person concerned, and that the proposed transactions are consistent with the policy of each registered investment company concerned, as recited in its registration statement and reports filed under the Act, and with the general purposes of the Act.

Accordingly, in the matter of Allianz Life Insurance Company of North America, et al. (File No. 812-14580),

It is ordered, under section 26(c) of the Act, that the proposed Substitutions are approved, effective immediately, subject to the conditions contained in the application, as amended.

It is further ordered, under section 17(b) of the Act, that the requested exemption from section 17(a) of the Act is granted, effective immediately, subject to the conditions contained in the application, as amended.

For the Commission, by the Division of Investment Management, under delegated authority.
Robert W. Errett,
Deputy Secretary.

[FR Doc. 2016-21134 Filed 9-1-16; 8:45 am]

BILLING CODE 8011-01-P